FEDERAL RETIREMENT THRIFT INVESTMENT BOARD

Sunshine Act Notice

Correction

In notice document 03-28240 appearing on page 63096 in the issue of Friday, November 7, 2003, make the following correction:

In the third column, the TIME AND DATE heading should read: “9 a.m. (e.s.t.); November 17, 2003.”

[FR Doc. C3-28240 Filed 11-10-03; 8:45 am]

BILLING CODE 1505-01-D